DEPARTMENT OF AGRICULTURE

Forest Service

Revised Notice of Intent, Land Management Planning

AGENCY: Forest Service, USDA.

ACTION: Notice.

SUMMARY: This notice revises the previous notice of intent to prepare an evironmental impact statement for the Southern Rockies Lynx Amendment published on June 30, 2000 (Volume 65 number 127, pages 40601 through 40606) to add the White River National Forest to the Southern Rockies Canada Lynx Amendment effort. USDA Deputy Under Secretary for Natural Resources and Environment, David Tenny, instructed the Forest Service to include the White River National Forest in the Southern Rockies Lynx Amendment process in his December 2, 2004 Discretionary Review Decision regarding the White River National Forest Revised Land and Resource Management Plan. This notice pertains only to the addition of the White River National Forest with the ongoing amendment effort.

DATES: Comments concerning the addition of the White River National Forest to the Southern Rockies Lynx Amendment effort should be postmarked by February 14, 2005.

ADDRESSES: Sylvia Arbelbide, Deputy Director of Strategic Planning, USDA Forest Service, 740 Simms Street, Golden, CO 80401.

FOR FURTHER INFORMATION CONTACT: Lois Pfeffer, Interdisciplinary Team Leader, 559-359-7023.

SUPPLEMENTARY INFORMATION: The White River National Forest completed its final revised forest plan April 2, 2002. USDA Deputy Under Secretary for Natural Resources and Environment, David Tenny, instructed the Forest Service to include the White River in the Southern Rockies Lynx Amendment process in his December 2, 2004 Discretionary Review Decision regarding the White River National Forest Revised Land and Resource Management Plan. This notice pertains only to the addition of the White River National Forest with the ongoing amendment effort. Comments specific to the addition of the White River National Forest are requested.

Comments previously submitted for the Southern Rockies Canada Lynx Amendnent draft environmental impact statement will be addressed in the final environmental impact statement and do not need to be resubmitted. The agency expects to file a supplemental draft environmental impact statement with the Environmental Protection Agency (EPA) and make it available for public, agency, and tribal government comment in April 2005. A final environmental impact statement is expected to be filed in late 2005.

Responsible Official: Rick Cables, Rocky Mountain Regional Forester, P.O. Box 25127, Lakewood, CO 80225-0127.

Dated: December 22, 2004.
James M. Moe,
Deputy Director, Engineering, Rocky Mountain Region.

[FR Doc. 04-28659 Filed 12-29-04; 8:45 am]

BILLING CODE 3410-ED-P